DEPARTMENT OF COMMERCE

National Oceanic and Atmospheric Administration

[I.D. 091901C]

Pacific Fishery Management Council; Public Meeting

AGENCY: National Marine Fisheries Service (NMFS), National Oceanic and Atmospheric Administration (NOAA), Commerce.

ACTION: Notice of public meeting.

SUMMARY: The Pacific Fishery Management Council's (Council) Salmon Technical Team (STT) and Scientific and Statistical Committee (SSC) Salmon Subcommittee will hold a joint work session, which is open to the public.

DATES: The work session will be held Tuesday, October 23, 2001, from 8:30 a.m. to 5 p.m., and Wednesday, October 24, 2001, from 8:30 a.m. to 5 p.m.

ADDRESSES: The work session will be held at the Embassy Suites Hotel, Pine Room II, 7900 NE 82nd Ave., Portland, OR 97220

Council address: Pacific Fishery Management Council, 7700 NE Ambassador Place, Suite 200, Portland, OR 97220-1384.

FOR FURTHER INFORMATION CONTACT: Mr. Chuck Tracy, Salmon Management Staff Officer, Pacific Fishery Management Council; (503) 326-6352.

SUPPLEMENTARY INFORMATION: The purpose of the work session is to brief the STT and SSC on changes made to or proposed for the Klamath Ocean Harvest Model (KOHM) and the coho Fishery Regulation Assessment Model (FRAM), and review the scientific bases for those changes. The KOHM will be reviewed on October 23, 2001 and the FRAM will be reviewed on October 24, 2001.

Although non-emergency issues not contained in the meeting agenda may come before the STT and the SSC subcommittee for discussion, those issues may not be the subject of formal action during this meeting. Action will be restricted to those issues specifically listed in this notice and any issues arising after publication of this notice that require emergency action under section 305 (c) of the Magnuson-Stevens Fishery Conservation and Management Act, provided the public has been notified of the intent to take final action to address the emergency.

Special Accommodations

This meeting is physically accessible to people with disabilities. Requests for sign language interpretation or other auxiliary aids should be directed to Ms. Carolyn Porter at (503) 326-6352 at least 5 days prior to the meeting date.

Dated: October 2, 2001.
Richard W. Surdi,
Acting Director, Office of Sustainable Fisheries, National Marine Fisheries Service.

[FR Doc. 01-25302 Filed 10-5-01; 8:45 am]

BILLING CODE 3510-22-S